DEPARTMENT OF COMMERCE

International Trade Administration

(A-588-863)

Notice of Final Determination of Sales at Less Than Fair Value and Affirmative Final Determination of Critical Circumstances: Wax and Wax/Resin Thermal Transfer Ribbons from Japan

AGENCY: Import Administration, International Trade Administration, Department of Commerce.

ACTION: Notice of Final Determination of Sales at Less Than Fair Value and Affirmative Final Determination of Critical Circumstances: Wax and Wax/Resin Thermal Transfer Ribbons (TTR) from Japan.

EFFECTIVE DATE: March 12, 2004.

FOR FURTHER INFORMATION CONTACT: James Doyle at (202) 482-0159 or Paul Walker at (202) 482-0413; Office of AD/CVD Enforcement IX, Group III, Import Administration, International Trade Administration, U.S. Department of Commerce, 14th Street and Constitution Avenue NW, Washington, DC 20230.

SUPPLEMENTARY INFORMATION:

Case History

The preliminary determination in this investigation was published on December 22, 2003. See Notice of Preliminary Determination of Sales at Less Than Fair Value: Wax and Wax/Resin Thermal Transfer Ribbons From France, 68 FR 71068 (December 22, 2003) (Preliminary Determination). Since the publication of the Preliminary Determination, the following events have occurred. On December 24, 2003 Union Chemicar Company Limited (UC) submitted critical circumstances information. On January 5 and January 16, 2004, petitioner, International Imaging Materials, Inc. (IIMAK), submitted additional comments regarding its allegation that respondents in the three investigations of TTR (France, Japan, and South Korea) would attempt to circumvent the order by slitting jumbo rolls in third countries, and its request that the Department therefore determine that slitting does not change the country of origin of TTR for antidumping purposes. On January 9, 2004, Armor, S.A. (Armor), the sole respondent in the French investigation, submitted additional comments on the country-of-origin issue. On January 16, 2004 Dai Nippon Printing Company Limited (DNP) submitted a request for a hearing. On February 9, 2004 the Department rejected the critical circumstances submissions made by both DNP and UC. On February 10, 2004 DNP and the Petitioner submitted case briefs. Additionally, on February 10, 2004 the Department rejected DNP's case brief because it contained the proprietary critical circumstances data which the Department had rejected on February 9, 2004. On February 13, 2004 DNP resubmitted its case brief. On February 17, 2004 DNP, UC and the Petitioner submitted rebuttal briefs. On February 20, 2004 we held a hearing on TTR from Japan. Additionally, on February 20, 2004, Ricoh Company Limited and Ricoh Electronics Inc. (collectively, Ricoh) submitted critical circumstances data. On February 23, 2004, the Department rejected Ricoh's critical circumstances data. On February 27, 2004, Fujicopian Company Limited submitted arguments supporting Ricoh's critical circumstances arguments. Please see the Preliminary Determination for a history of all previous comments submitted in this case.

Scope of Investigation

This investigation covers wax and wax/resin thermal transfer ribbons (TTR), in slit or unslit (“jumbo”) form originating from Japan with a total wax (natural or synthetic) content of all the image side layers, that transfer in whole or in part, of equal to or greater than 20 percent by weight and a wax content of the colorant layer of equal to or greater than 10 percent by weight, and a black color as defined by industry standards by the CIELAB (International Commission on Illumination) color specification such that L*<35, -20<a*<35, and -40<b*<31, and black and near-black TTR. TTR is typically used in printers generating alphanumeric and machine-readable characters, such as bar codes and facsimile machines.

The petition does not cover resin TTR, and finished thermal transfer ribbons with a width greater than 212 millimeters (mm), but not greater than 220 mm (or 8.35 to 8.66 inches) and a length of 230 meters (m) or less (i.e., slit fax TTR, including cassetted TTR), and ribbons with a magnetic content of greater than or equal to 45 percent, by weight, in the colorant layer.

Please see the Issues and Decision Memorandum which accompanies this Federal Register notice regarding the country of origin for TTR from Japan.

The merchandise subject to this investigation may be classified in the Harmonized Tariff Schedule of the United States (HTSUS) at heading 3702 and subheadings 3921.90.40.25, 9612.10.90.30, 3204.90, 3506.99, 3919.90, 3920.62, 3920.99 and 3926.90. The tariff classifications are provided for convenience and U.S. Customs and Border Protection (CBP) purposes; however, the written description of the scope of the investigation is dispositive.

Period of Investigation (POI)

The POI is April 1, 2002, through March 31, 2003. This period corresponds to the four most recent fiscal quarters prior to the month of filing of the petition (i.e., June 2003) involving imports from a market economy, in accordance with our regulations. See 19 CFR § 351.204(b)(1).

Facts Available

In the Preliminary Determination, we based the dumping margin for the mandatory respondents, DNP and UC, on adverse facts available pursuant to sections 776(a) and 776(b) of the Act. The use of adverse facts available was warranted in this investigation because DNP withdrew its questionnaire responses from the record and UC failed to respond to any part of the antidumping duty questionnaire issued by the Department. See Preliminary Determination, 68 FR at 42386. The withdrawal of such information significantly impeded this proceeding because the Department could not accurately determine a margin without responses to our questionnaires. In addition, we found that DNP and UC failed to cooperate to the best of their ability. We assigned DNP and UC the highest margin stated in the notice of initiation. See Notice of Initiation of Antidumping Duty Investigation: Thermal Transfer Ribbons From France, Japan and the Republic of Korea, 68 FR 38305 (June 27, 2003). A complete explanation of the selection, corroboration, and application of adverse facts available can be found in the Preliminary Determination. See Preliminary Determination, 68 FR at 71070-71.

Since the publication of the Preliminary Determination, no interested parties have commented on our application of adverse facts available with respect to the LTFV determination. Accordingly, for the final determination, we continue to use the highest margin stated in the notice of initiation for DNP and UC. The “All Others” rate remains unchanged as well.

Analysis of Comments Received

All issues raised in the case and rebuttal briefs by parties to this investigation are addressed in the “Issues and Decision Memorandum for the Final Results of Sales at Less Than Fair Value and Affirmative Final Determination of Critical Circumstances: Wax and Wax/Resin Thermal Transfer Ribbons from Japan” from Joseph Spetrini to James J. Jochum (March 1, 2004) (Decision Memo), which is hereby adopted by this notice. A list of the issues which parties raised and to which we respond in the Decision Memo is attached to this notice as an Appendix. The Decision Memo is a public document and is on file in the Central Records Unit, Main Commerce Building, Room B-099, and is accessible on the Web at www.ia.ita.doc.gov.

Final Critical Circumstances Determination

On November 26, 2003 the petitioner in this investigation, International Imaging Materials Inc. (IIMAK), submitted an allegation of critical circumstances with respect to imports of wax and wax/resin thermal transfer ribbons from Japan. On December 22, 2003, the Department issued its Preliminary Determination that it had reason to believe or suspect critical circumstances exist with respect to imports of TTR from Japan. See Preliminary Determination, 68 FR at 71074-76. We now find that critical circumstances exist for imports of wax and wax/resin thermal transfer ribbons from Japan. See Decision Memo at Comment 2.

Continuation of Suspension of Liquidation

In accordance with section 735(c)(1)(B) of the Act, we are directing CBP to continue to suspend liquidation of all entries of subject merchandise from Japan, that are entered, or withdrawn from warehouse, for consumption on or after the date of publication of the Preliminary Determination for “all other” Japanese exporters. The Department will direct CBP to suspend liquidation of all entries of TTR from Japan that are entered, or withdrawn from warehouse, on or after 90 days before the date of publication of the Preliminary Determination for DNP and UC. CBP shall continue to require a cash deposit or posting of a bond equal to the estimated amount by which the normal value exceeds the U.S. price as shown below. This suspension of liquidation instructions will remain in effect until further notice.

We determine that the following dumping margins exist for the POI:

Manufacturer/exporter | Margin (percent)
DNP | 147.30
UC | 147.30
All Others | 106.60

International Trade Commission Notification

In accordance with section 735(d) of the Act, we have notified the International Trade Commission (ITC) of our determination. The ITC will determine, within 45 days, whether imports of subject merchandise from Japan are causing material injury, or threaten material injury, to an industry in the United States. If the ITC determines that material injury or threat of injury does not exist, this proceeding will be terminated and all securities posted will be refunded or canceled. If the ITC determines that such injury does exist, the Department will issue an antidumping duty order directing CBP officials to assess antidumping duties on all imports of the subject merchandise entered, or withdrawn from warehouse for consumption on or after the effective date of the suspension of liquidation.

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: March 1, 2004.
James J. Jochum,
Assistant Secretary for Import Administration.

APPENDIX

List of Issues

1. Country of Origin

2. Critical Circumstances

[FR Doc. 04-5655 Filed 3-11-04; 8:45 am]

BILLING CODE 3510-DS-S